DEPARTMENT OF HEALTH AND HUMAN SERVICES

Solicitation of Nominations for Membership on the Presidential Advisory Council on HIV/AIDS

AGENCY: Department of Health and Human Services, Office of the Secretary, Office of Public Health and Science.

ACTION: Notice.

Authority: Executive Order 12963, dated June 14, 1995, as amended by Executive Order 13009, dated June 14, 1996; and Section 222 of the Public Health Service Act (42 U.S.C. 217a). The Council is governed by the provisions of Public Law 92-463, as amended (5 U.S.C. App), which sets forth standards for the formation and use of advisory committees.

SUMMARY: The Office of HIV/AIDS Policy (OHAP), a program office within the Office of Public Health and Science, Department of Health and Human Services (HHS), is soliciting nominations of qualified candidates to be considered for appointment as members to the Presidential Advisory Council on HIV/AIDS (PACHA). The activities of this council are governed by the Federal Advisory Committee Act (FACA). Management support for the activities of this Council is the responsibility of the OHAP.

The Council provides advice, information, and recommendations to the Secretary of Health and Human Services regarding programs and policies to promote effective prevention and cure of HIV disease and AIDS. The functions of the Council shall be solely advisory in nature.

DATES: All nominations for membership on the Council must be received no later than September 11, 2009.

ADDRESSES: All nominations should be mailed or delivered to: Christopher Bates, Director, OHAP, Office of Public Health and Science, Department of Health and Human Services, 200 Independence Avenue, SW., Room 443-H, Hubert H. Humphrey Building; Washington, DC 20201.

FOR FURTHER INFORMATION CONTACT: Mr. Melvin Joppy, Program Specialist, Office of HIV/AIDS Policy, Department of Health and Human Services, 200 Independence Avenue, SW., Room 443-H, Hubert H. Humphrey Building, Washington, DC 20201; (202) 690-5560; melvin.joppy@hhs.gov.

A copy of the charter which includes the Council's structure and functions can be obtained by contacting Mr. Joppy or by accessing the PACHA Web site at http://www.pacha.gov.

SUPPLEMENTARY INFORMATION: Committee Function, Qualifications, and Information Required: The Council consists of not more than 25 members; one or more members are selected as Chair, Vice Chair and/or Co-Chairs. Council members are selected from prominent community leaders with particular expertise in, or knowledge of, matters concerning HIV/AIDS, public health, global health, philanthropy, marketing or business, as well as other national leaders held in high esteem from other sectors of society. Council members, as well as the Council leadership, are appointed by the Secretary or designee, in consultation with the White House Office of National AIDS Policy. All Council members are classified as special Government employees (SGEs). The Council composition may include ex officio members from relevant HHS components, as deemed necessary to accomplish the established mission of the Council.

Council members are invited to serve for overlapping terms of up to four years; terms are contingent upon the authorized continuation of the Council. A member can serve after the expiration of their term until their successor has taken office and/or until notified in writing that their term has ended or expired, but no longer than 180 days.

Pursuant to advance written agreement, Council members receive no stipend for the advisory service they render as members of PACHA. However, as authorized by law and in accordance with Federal travel regulations, PACHA members receive per diem and reimbursement for travel expenses incurred in relation to performing duties for the Council.

With approval of the Secretary or designee, subcommittees may be established to perform specific functions within the jurisdiction of the Council. Compositions for the subcommittee are members of the Council. The subcommittees make preliminary recommendations to be considered by the Council membership.

Nominations

In accordance with the charter, persons nominated for appointment as members of the PACHA should be prominent community leaders or national leaders who are held in high esteem from other sectors of society with particular expertise in, or knowledge of, matters concerning HIV and AIDS, public health, global health, philanthropy, and marketing or business. Nominations should be typewritten. The following information should be included in the package of material submitted for each individual being nominated for consideration: (1) A letter of nomination that clearly states the name and affiliation of the nominee, the basis for the nomination (i.e., specific attributes which qualify the nominee for service in this capacity); (2) a statement from the nominee, bearing an original signature, that, if appointed, he or she is willing to serve as a member of the Council; (3) the nominator's name, address and daytime telephone number, and the home and/or work address, telephone number, and email address of the individual being nominated; and (4) a current copy of the nominee's curriculum vitae.

Individuals can nominate themselves for consideration of appointment to the Council. All nominations must include the required information. Incomplete nominations will not be processed for consideration. The letter from the nominator and certification of the nominated individual must bear original signatures; reproduced copies of these signatures are not acceptable. Applications cannot be submitted by facsimile. The names of Federal employees should not be nominated for consideration of appointment to this Council.

The Department makes every effort to ensure that the membership of HHS Federal advisory committees is fairly balanced in terms of points of view represented and the committee's function. Every effort is made that a broad representation of geographic areas, gender, ethnic and minority groups, and the disabled are given consideration for membership on HHS Federal advisory committees. Appointment to the Council shall be made without discrimination on the basis of age, race, ethnicity, gender, sexual orientation, disability, and cultural, religious, or socioeconomic status.

The Standards of Ethical Conduct for Employees of the Executive Branch are applicable to individuals who are appointed as public members of Federal advisory committees. Individuals appointed to serve as public members of Federal advisory committees are classified as special Government employees (SGEs). SGEs are Government employees for purposes of the conflict of interest laws. Therefore, individuals appointed to serve as public members of HHS are subject to an ethics review. The ethics review is conducted to determine if the individual has any interests and/or activities in the private sector that may conflict with performance of their official duties as a member of the Council. Individuals appointed to serve as public members of the Council will be required to disclose information regarding financial holdings, consultancies, and research grants and/or contracts.

Dated: August 20, 2009.
Christopher H. Bates,
Director, Office of HIV/AIDS Policy, Interim Executive Director, Presidential Advisory Council on HIV/AIDS.

[FR Doc. E9-20571 Filed 8-25-09; 8:45 am]

BILLING CODE 4150-43-P